DEPARTMENT OF COMMERCE

[I.D. 043001A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Foreign Fishing Reporting Requirements.

Form Number(s): None.

OMB Approval Number: 0648-0075.

Type of Request: Regular submission.

Burden Hours: 422.

Number of Respondents: 25.

Average Hours Per Response: 6 minutes for an activity or weekly report, 30 minutes per day for joint venture recordkeeping, and 7.5 minutes per day for transport recordkeeping.

Needs and Uses: Foreign fishing activities can be authorized under the Magnuson-Stevens Fishery Conservation and Management Act (16 U.S.C. 1801 et. seq.). The collection of information from permitted foreign vessels is necessary to monitor vessel activities and location for enforcement purposes. Reports are also necessary for fishery management purposes, monitoring the amounts of fish, if any, permitted vessel harvest or receive from U.S. vessels in joint venture operations.

Affected Public: Business or other for-profit organizations.

Frequency: On occasion, weekly.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: April 27, 2001.
Madeleine Clayton,
Departmental Paperwork Clearance Officer, Office of the Chief Information Officer.

[FR Doc. 01-11319 Filed 5-3-01; 8:45 am]

BILLING CODE 3510-22-S